DEPARTMENT OF THE INTERIOR

National Park Service

[NPS-WASO-NAGPRA-NPS0033685; PPWOCRADN0-PCU00RP14.R50000]

Notice of Inventory Completion: Sam Noble Oklahoma Museum of Natural History, University of Oklahoma, Norman, OK

AGENCY: National Park Service, Interior.

ACTION: Notice.

SUMMARY: The Sam Noble Oklahoma Museum of Natural History (Museum) at the University of Oklahoma has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Museum at the address in this notice by May 9, 2022.

FOR FURTHER INFORMATION CONTACT: Dr. Marc Levine, Associate Curator of Archaeology, Sam Noble Oklahoma Museum of Natural History, University of Oklahoma, 2401 Chautauqua Avenue, Norman, OK 73072-7029, telephone (405) 325-1994, email mlevine@ou.edu.

SUPPLEMENTARY INFORMATION: Notice is here given in accordance with the Native American Graves Protection and Repatriation Act (NAGPRA), 25 U.S.C. 3003, of the completion of an inventory of human remains and associated funerary objects under the control of the Sam Noble Oklahoma Museum of Natural History, University of Oklahoma, Norman, OK. The human remains and associated funerary objects were removed from McCurtain County, OK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Sam Noble Oklahoma Museum of Natural History professional staff in consultation with representatives of the Quapaw Nation [previously listed as The Quapaw Tribe of Indians] and The Choctaw Nation of Oklahoma.

History and Description of the Remains

In 1941, human remains representing, at minimum, one individual were removed from the Clement 1 site (34Mc8) in McCurtain County, OK. This mound and midden site was excavated in 1941 by the Works Progress Administration and the excavated materials were transferred to the Museum the same year. The human remains—a complete skeleton—belong to a middle-aged adult male, 35-60 years old. No known individual was identified. The 56 associated funerary objects include 20 faunal bone fragments, nine glass buttons, one whiteware ceramic sherd, 10 iron cut nail fragments, and 16 unidentified iron fragments.

The Clement 1 site (34Mc8) includes both historic and prehistoric components. The human remains and associated funerary objects in this notice all belong to the historic period. Archeological study of diagnostic artifacts and faunal materials indicate the human remains and associated funerary objects were interred during a reoccupation of the site sometime after the 1700s. Based on archeological, geographical, and historical evidence, as well as information gained through tribal consultation, the burial and associated funerary objects are most likely culturally affiliated with The Choctaw Nation of Oklahoma.

Determinations Made by the Sam Noble Oklahoma Museum of Natural History

Officials of the Sam Noble Oklahoma Museum of Natural History have determined that:

• Pursuant to 25 U.S.C. 3001(9), the human remains described in this notice represent the physical remains of one individual of Native American ancestry.

• Pursuant to 25 U.S.C. 3001(3)(A), the 56 objects described in this notice are reasonably believed to have been placed with or near individual human remains at the time of death or later as part of the death rite or ceremony.

• Pursuant to 25 U.S.C. 3001(2), there is a relationship of shared group identity that can be reasonably traced between the Native American human remains and associated funerary objects and The Choctaw Nation of Oklahoma.

Additional Requestors and Disposition

Lineal descendants or representatives of any Indian Tribe or Native Hawaiian organization not identified in this notice that wish to request transfer of control of these human remains and associated funerary objects should submit a written request with information in support of the request to Dr. Marc Levine, Associate Curator of Archaeology, Sam Noble Oklahoma Museum of Natural History, University of Oklahoma, 2401 Chautauqua Avenue, Norman, OK 73072-7029, telephone (405) 325-1994, email mlevine@ou.edu, by May 9, 2022. After that date, if no additional requestors have come forward, transfer of control of the human remains and associated funerary objects to The Choctaw Nation of Oklahoma may proceed.

The Sam Noble Oklahoma Museum of Natural History is responsible for notifying the Quapaw Nation [previously listed as The Quapaw Tribe of Indians] and The Choctaw Nation of Oklahoma that this notice has been published.

Dated: April 1, 2022.
Melanie O'Brien,
Manager, National NAGPRA Program.

[FR Doc. 2022-07606 Filed 4-7-22; 8:45 am]

BILLING CODE 4312-52-P